DEPARTMENT OF THE INTERIOR

Fish and Wildlife Service

Marin Islands National Wildlife Refuge Draft Comprehensive Conservation Plan and Environmental Assessment

AGENCY: Fish and Wildlife Service, Interior.

ACTION: Notice of availability; request for comments.

SUMMARY: The U.S. Fish and Wildlife Service (Service) announces that the Marin Islands National Wildlife Refuge (Refuge) Draft Comprehensive Conservation Plan and Environmental Assessment (Draft CCP/EA) is available for review and comment. Also available for review with the Draft CCP/EA are the draft compatibility determinations for research and monitoring; wildlife observation and photography; environmental education and interpretive guided tours; and sport fishing.

DATES: To ensure that the Service has adequate time to evaluate and incorporate suggestions and other input into the planning process, comments should be received on or before August 21, 2006.

ADDRESSES: For information on obtaining documents and submitting comments, see “Review and Comment” under SUPPLEMENTARY INFORMATION.

FOR FURTHER INFORMATION CONTACT: Christy Smith, Refuge Manager, (707) 769-4200, or Winnie Chan, Refuge Planner, (510) 792-0222.

SUPPLEMENTARY INFORMATION: The Draft CCP/EA was prepared pursuant to the National Wildlife Refuge System Administration Act of 1966, as amended by the National Wildlife Refuge System Improvement Act of 1997 (16 U.S.C. 668dd et seq.) (Improvement Act), and the National Environmental Policy Act of 1969, as amended, and describes how the Service proposes to manage this Refuge over the next 15 years. Refuge management changes proposed in the draft CCP include: Restoration of coastal scrub and oak woodland habitats; opportunities for public use including wildlife observation, photography, interpretation, and environmental education; and cultural resource interpretation and preservation.

The National Wildlife System Administration Act of 1966, as amended by the National Wildlife Refuge Improvement Act of 1997, requires the Service to develop a CCP for each National Wildlife Refuge. The purpose in developing a CCP is to provide refuge managers with a 15-year strategy for achieving refuge purposes and contributing toward the mission of the National Wildlife Refuge System, consistent with sound principles of fish and wildlife management, conservation, legal mandates, and Service policies. In addition to outlining broad management direction on conserving wildlife and their habitats, the CCP identifies wildlife-dependent recreational opportunities available to the public, which can include opportunities for hunting, fishing, wildlife observation and photography, and environmental education and interpretation.

Review and Comment

Copies of the Draft CCP/EA may be obtained by writing to Winnie Chan, Refuge Planner, Marin Islands NWR CCP, San Francisco Bay NWR Complex, P.O. Box 524, Newark, California 94560. Copies of the Draft CCP/EA may be viewed at this address and are also available for viewing and downloading online at: http://www.fws.gov/pacific/planning/.

Hard copies of the Draft CCP/EA are also available at the following locations:

San Francisco Bay National Wildlife Refuge Complex, 1 Marshlands Road, Newark, CA 94536.

San Pablo Bay National Wildlife Refuge, 7715 Lakeville Highway, Petaluma, CA 94954.

Marin County Civic Center Library, 3501 Civic Center Drive #427, San Rafael, CA 94903.

Comments on the Draft CCP/EA should be address to: Winnie Chan, Refuge Planner, Marin Islands NWR CCP, San Francisco Bay NWR Complex, P.O. Box 524, Newark, California 94560. Comments may also be faxed to (510) 792-5828 or e-mailed to: sfbaynwrc@fws.gov.

Background

The Refuge is located off the shoreline of the City of San Rafael, Marin County, in San Pablo Bay. The 339-acre Refuge of tidelands and 2 islands was established in 1992 “for the development, advancement, management, conservation, and protection of fish and wildlife resources”. The various parcels of land within the Refuge are under the ownership of the California Department of Fish and Game, California State Lands Commission, or the Fish and Wildlife Service. The California Department of Fish and Game-owned lands are designated as a State Ecological Reserve. These lands and the Service-owned lands are designated and administered as the Marin Islands National Wildlife Refuge. The Service provides day-to-day management of the entire Marin Islands Refuge and State Ecological Reserve under the National Wildlife Refuge System Administration Act, as amended, and pursuant to a memorandum of understanding with other landowning agencies.

The Refuge supports one of the largest heron and egret colonies in northern California. The primary purpose of the Refuge is “to protect an important existing egret and heron rookery on West Marin Island and to increase colonial nesting bird use on East Marin Islands,” as described in the 1992 Environmental Assessment.

Proposed Action

The Proposed Action is to provide an integrated set of management actions consistent with the purposes for which the Refuge was established; the mandates of the Refuge System; and the vision, goals, and objectives defined in the CCP. The CCP identifies the Refuge's roles in support of the mission of the Refuge System and describes the Service's proposed management actions. The CCP must be consistent with sound principles of fish and wildlife science and conservation, and legal mandates and Service policies. In addition to outlining refuge management direction for conserving wildlife and their habitats, CCPs identify wildlife-dependent recreational opportunities available to the public.

Alternatives

The Draft CCP/EA identifies and evaluates 3 alternatives for managing Marin Islands National Wildlife Refuge for the next 15 years. Each alternative describes a combination of wildlife, habitat, and public use management prescriptions designed to achieve Refuge purposes. Of the alternatives described below, the Service believes Alternative C would best achieve the purposes of the Refuge, and is, therefore identified as the Preferred Alternative.

Alternative A, the no-action alternative, assumes no change from current management programs and is considered the baseline to compare other alternatives. Under this alternative, the focus of the Refuge would be to continue to maintain and restore native coastal scrub and oak woodland habitat for migratory birds. The Refuge would remain closed to the public other than existing, supervised volunteer opportunities and fishing in the Refuge's submerged area. Wildlife observation and photography would not be allowed on the Refuge's islands.

Alternative B would accelerate habitat restoration of the coastal scrub and oak woodland habitat to provide potential habitat for the migratory birds that nest at the Refuge. The Refuge would remain closed to public access under this Alternative, but fishing from boats would continue. Impacts from trespassing would be reduced through increased law enforcement monitoring. Raven predation of the heron and egret colonies would be monitored to determine declines in the colonies' population.

Alternative C, the preferred alternative, would also include accelerated habitat restoration, increased law enforcement monitoring, fishing from boats, and raven predation monitoring. In addition, public use, environmental education, and cultural resource preservation would be provided. Guided tours would be established to provide wildlife observation, environmental education, and cultural resource interpretation opportunities. Off-refuge environmental education opportunities include school and community presentations. Cultural resources on the Refuge will be assessed and preserved according to regulatory requirements.

Public Comments

After the review and comment period ends for this Draft CCP/EA, comments will be analyzed by the Service and addressed in the Final CCP/EA. All comments received from individuals, including names and addresses, become part of the official public record and may be released. Requests for such comments will be handled in accordance with the Freedom of Information Act, the Council on Environmental Quality's NEPA regulations, and Service and Departmental policies and procedures.

Ken McDermond,
Acting Manager, California/Nevada Operations Office, Sacramento, California.

[FR Doc. E6-11597 Filed 7-20-06; 8:45 am]

BILLING CODE 4310-55-P